DEPARTMENT OF COMMERCE

National Oceanic and Atmospheric Administration

[RTID 0648-XF256]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council's) Summer Flounder, Scup, and Black Sea Bass and Bluefish Advisory Panels will hold a public meeting, jointly with the Atlantic States Marine Fisheries Commission's (Commission's) Summer Flounder, Scup and Black Sea Bass and Bluefish Advisory Panels.

DATES: The meeting will be held on Monday, November 3, 2025, from 4 p.m. to 5:30 p.m. EST. For agenda details, see SUPPLEMENTARY INFORMATION.

ADDRESSES: The meeting will be held via webinar. Webinar connection information will be available at www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panels to provide input on the development of options for the ongoing Recreational Sector Separation Amendment to the Summer Flounder, Scup, and Black Sea Bass Fishery Management Plan and the Bluefish Fishery Management Plan. This amendment considers options for managing for-hire recreational fisheries separately from other recreational fishing modes (referred to as sector separation or mode management), as well as options related to for-hire permit and reporting requirements for these four species. Input from the Advisory Panels will be considered by the Fishery Management Action Team/Plan Development Team (FMAT/PDT) for this action as they further develop relevant management approaches. The Advisory Panels' comments will also be communicated to the Council and the Commission's Policy Board when they meet to consider a range of alternatives in December 2025. Additional information about this action and the issues under consideration can be found on the action page at: https://www.mafmc.org/actions/recreational-sector-separation-amendment.

Special Accommodations

The meeting is physically accessible to people with disabilities. Requests for sign language interpretation or other auxiliary aids should be directed to Shelley Spedden at the Council Office, (302) 526-5251, at least 5 days prior to the meeting date.

Authority: 16 U.S.C. 1801 et seq.

Dated: September 29, 2025.
Becky J. Curtis,
Acting Deputy Director, Office of Sustainable Fisheries, National Marine Fisheries Service.

[FR Doc. 2025-19240 Filed 10-1-25; 8:45 am]

BILLING CODE 3510-22-P